ENVIRONMENTAL PROTECTION AGENCY

[ER-FRL-6658-3]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements (EISs) was published in FR dated April 2, 2004 (69 FR 17403).

Draft EISs

ERP No. D-AFS-J65426-UT Rating EC2, Wasatch Plateau Grazing Project, Proposal To Continue To Authorize Sheep Grazing by Issuance of a Term Grazing Permits on 31 Sheep Allotments, Manti-La Sal National Forest, Sanpete, Ferron and Price Ranger Districts, Sanpete, Carbon, Utah and Emery Counties, UT.

Summary: EPA expressed environmental concerns about whether the preferred alternative would resolve the existing adverse impacts from grazing to aquatic and terrestrial resources, and suggested enhancements to the analysis of impacts, the adaptive management plan and the range of alternatives.

ERP No. D-COE-K36141-AZ Rating LO, Santa Cruz River Paseco de las Iglesias Feasibility Study, To Identify, Define and Solve Environmental Degradation, Flooding and Water Resource Problem, City of Tucson, Pima County, AZ.

Summary: EPA does not object to the project as proposed, but requested additional information regarding coordination with Tribes and cumulative impacts.

ERP No. D-NRC-G09804-NM Rating LO, National Enrichment Facility (NEF), To Construct, Operate, and Decommission a Gas Centrifuge Uranium Enrichment Facility, License Application, NUREG-1790, near Eunice, Lea County, NM.

Summary: EPA has no objection to the proposed action.

ERP No. D-NRS-L39060-OR Rating LO, Williamson River Delta Restoration Project, To Restore and Maintain the Ecological Functions of the Delta, Williamson River, Klamath County, OR.

Summary: EPA commended NRCS for their efforts to restore ecological function and ecosystem health in the Williamson River Delta. The water quality benefits of the project are consistent with both the Clean Water Act Total Maximum Daily Load (TMDL) for the Upper Klamath Lake Basin (May 2002) and the Water Quality Management Plan for implementation of the TMDL. EPA had no objections to the proposed project.

ERP No. D-UAF-G11045-TX Rating LO, Relocation of the C-5 Formal Training Unit from Altus Air Force Base, Oklahoma to Lackland Air Force Base, Bexar County, TX.

Summary: EPA has lack of objection to the selection of the proposed alternative. Mitigation measures have been incorporated in the selected alternative to effectively minimize and/or alleviate adverse environmental impacts.

Final EISs

ERP No. F-AFS-J65408-MT, Fortine Project, To Implement Vegetation Management, Timber Harvest and Fuel Reduction Activities, Kootenai National Forest, Fortine Ranger District, Lincoln County, MT.

Summary: EPA supports the BMPs and road improvements and decommissioning projects that provide overall water quality improvement for 303(d) listed Fortine Creek. However, EPA is concerned about sediment production and transport from proposed timber harvests, and the availability of funds for additional aquatic and riparian enhancement projects.

ERP No. F-COE-K39086-CA, Matilija Dam Ecosystem Restoration Feasibility Study, Restoring Anadromous Fish Populations, Matilija Creek, Ventura River, Ventura County Watershed Protection District, Ventura County, CA.

Summary: The FEIS addressed EPA's concerns regarding downstream ecosystem impacts from sediment mobilization.

Dated: November 30, 2004.
Robert W. Hargrove,
Director, NEPA Compliance Division, Office of Federal Activities.

[FR Doc. 04-26630 Filed 12-2-04; 8:45 am]

BILLING CODE 6560-50-P